DEPARTMENT OF COMMERCE

Census Bureau

Agency Information Collection Activities; Submission to the Office of Management and Budget (OMB) for Review and Approval; Comment Request; High-Frequency Surveys Program/Household Trends and Outlook Pulse Survey (HTOPS)

On July 22, 2024, the Department of Commerce received clearance from the Office of Management and Budget (OMB) in accordance with the Paperwork Reduction Act of 1995 to conduct Phase 4.2 of the Household Pulse Survey (OMB No. 0607-1029, Exp. 01/31/27) and on July 12, 2024, clearance was received to conduct the tenth, eleventh, and twelfth Census Household Panel topical operations (OMB No. 0607-1025, Exp. 6/30/26). The Household Trends and Outlook Pulse Survey (HTOPS) is designed to ensure availability of frequent data collection for nationwide estimates on a variety of topics for a variety of subgroups of the population. This notice serves to inform of the Department's intent to request clearance from OMB to conduct HTOPS sample replenishment and January and February topical operations.

The purpose of the sample replenishment baseline instrument is to recruit a nationally representative survey panel and also collect data on a variety of topics of interest. The topical survey that will field in January will include a household roster update and a section of assistance program income questions that will be used to test several possible changes being made in preparation for the transition to a multimode version of the Survey of Income and Program Participation (SIPP) the SIPP redesign effort on a larger representative respondent sample. The results of this test will be for internal use only. The February topical survey will include content from the Household Pulse Survey. The Household Pulse Survey will continue to serve as an experimental endeavor coordinated with other federal agencies to produce near real-time data to understand the effects of current events, including health events, natural disaster events, or other social or economic events facing the nation or a significant portion of the nation.

It is the Department's intention to commence data collection using the revised instrument on or about July 23, 2024. We invite the general public and other Federal agencies to comment on proposed, and continuing information collections, which helps us assess the impact of our information collection requirements and minimize the public's reporting burden. Public comments were previously requested via the Federal Register on February 15, 2024 (OMB No. 0607-1029) during a 30-day comment period. This notice allows for an additional 30 days for public comments.

Agency: U.S. Census Bureau, Department of Commerce.

Title: High Frequency Surveys Program/Household Trends and Outlook Pulse Survey.

OMB Control Number: 0607-1029.

Form Number(s): Not yet determined.

Type of Request: Regular submission. Request for a Revision of a Currently Approved Collection.

Number of Respondents: Baseline: 18,000 respondents/Topicals 17,812 panel members.

Average Hours per Response: Baseline: .400 (24 minutes); Topicals: .333 (20 minutes).

Burden Hours: Baseline: 7,200/Topical 3,300 per month.

Needs and Uses: The High-Frequency Surveys Program was established as a natural progression from the creation of the Household Pulse Survey. The Household Trends and Outlook Pulse Survey (HTOPS) is a probability-based nationwide nationally representative survey panel designed to test the methods to collect data on a variety of topics of interest, and for conducting experimentation on alternative question wording and methodological approaches. The goal of the HTOPS is to ensure availability of frequent data collection for nationwide estimates on a variety of topics and a variety of subgroups of the population, meeting standards for transparent quality reporting of the Federal Statistical Agencies and the Office of Management and Budget (OMB).

Panelists and households selected for the HTOPS were recruited from the Census Bureau's gold standard Master Address File. This ensures that HTOPS is rooted in this rigorously developed and maintained frame and available for linkage to administrative records securely maintained and curated by the Census Bureau. Invitations to complete the monthly surveys will be sent via email and SMS messages. Questionnaires will be mainly internet self-response. The HTOPS will maintain representativeness by allowing respondents who do not use the internet to respond via computer-assisted telephone interviewing (CATI). All panelists will receive an incentive for each complete questionnaire. Periodic replenishment samples will maintain representativeness and panelists will be replaced after a period of three years.

Affected Public: Households.

Frequency: Monthly.

Respondent's Obligation: Voluntary.

Legal Authority: 13 U.S.C. 141, 182 and 193.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-1025.

Sheleen Dumas,
Departmental PRA Clearance Officer, Office of the Under Secretary for Economic Affairs, Commerce Department.

[FR Doc. 2024-28849 Filed 12-6-24; 8:45 am]

BILLING CODE 3510-07-P